LIBRARY OF CONGRESS

U.S. Copyright Office

[Docket No. 2012-12]

Extension of Comment Period: Orphan Works and Mass Digitization: Request for Additional Comments

AGENCY: U.S. Copyright Office, Library of Congress.

ACTION: Extension of comment period.

SUMMARY: The U.S. Copyright Office is extending the deadline for public comments that address topics listed in the Office's February 10, 2014 Notice of Inquiry and that respond to any issues raised during the public roundtables held in Washington, DC, on March 10-11, 2014.

DATES: Comments are now due May 21, 2014 by 5:00 p.m. EDT.

ADDRESSES: All comments and reply comments shall be submitted electronically. A page containing a comment form is posted on the Office Web site at http://www.copyright.gov/orphan/. The Web site interface requires commenting parties to complete a form specifying name and organization, as applicable, and to upload comments as an attachment via a browser button. To meet accessibility standards, commenting parties must upload comments in a single file not to exceed six megabytes (MB) in one of the following formats: The Portable Document File (PDF) format that contains searchable, accessible text (not an image); Microsoft Word; WordPerfect; Rich Text Format (RTF); or ASCII text file format (not a scanned document). The form and face of the comments must include both the name of the submitter and organization. The Office will post the comments publicly on the Office's Web site exactly as they are received, along with names and organizations. If electronic submission of comments is not feasible, please contact the Office at 202-707-1027 for special instructions.

FOR FURTHER INFORMATION CONTACT: Karyn Temple Claggett, Associate Register of Copyrights and Director of Policy and International Affairs by email at kacl@loc.gov or by telephone at 202-707-1027; or Catherine Rowland, Senior Counsel for Policy and International Affairs, by email at crowland@loc.gov or by telephone at 202-707-1027.

SUPPLEMENTARY INFORMATION: On February 10, 2014, the Copyright Office published a Notice of Inquiry announcing public roundtables and inviting additional public comments on potential legislative solutions for orphan works and mass digitization under U.S. copyright law. The Office held its public roundtables on March 10-11, 2014, during which various participants voiced a wide range of opinions. To enable commenters sufficient time to respond to issues raised during the March 2014 roundtables, the Office is extending the time for filing additional comments from April 14, 2014 to May 21, 2014.

Dated: March 31, 2014.
Karyn Temple Claggett,
Associate Register of Copyrights and Director of Policy and International Affairs.

[FR Doc. 2014-07505 Filed 4-3-14; 8:45 am]

BILLING CODE 1410-30-P